DEPARTMENT OF THE INTERIOR

National Park Service

National Register of Historic Places; Notification of Pending Nominations

Nominations for the following properties being considered for listing in the National Register were received by the National Park Service before April 26, 2003.

Pursuant to section 60.13 of 36 CFR part 60 written comments concerning the significance of these properties under the National Register criteria for evaluation may be forwarded by United States Postal Service, to the National Register of Historic Places, National Park Service, 1849 C St. NW, 2280, Washington, DC 20240; by all other carriers, National Register of Historic Places, National Park Service,1201 Eye St. NW, 8th floor, Washington DC 20005; or by fax, 202-371-6447. Written or faxed comments should be submitted by June 2, 2003.

Carol D. Shull,
Keeper of the National Register of Historic Places.

ARKANSAS

Woodruff County

Augusta Memorial Park Historic Section,Bounded by Iris, Rose, Hough Drives and AR 33B,Augusta, 03000507

FLORIDA

Gulf County

Port Theatre, 314 Reid Ave.,Port St. Joe, 03000508

Leon County

Greenwood Cemetery,Old Bainbridge Rd.,Tallahassee, 03000510

Orange County

1890 Windermere School,113 W. Seventh Ave.,Windermere, 03000509

NEW YORK

Livingston County

Kellogg, J. Francis, House,255 Genesee St.,Avon, 03000511

OKLAHOMA

Cherokee County

Tahlequah Carnegie Library,120 S. College,Tahlequah, 03000516

Grady County

New Hope Baptist Church,1202 S. Shepherd St.,Chickasha, 03000515

Payne County

Cushing American Legion Building,212 S. Noble,Cushing, 03000514

Pittsburg County

OKLA Theater,18 E. Choctaw,McAlester, 03000513

Stephens County

Foreman, W.T., House,814 W. Oak Ave.,Duncan, 03000512

RHODE ISLAND

Kent County

Briggs, Richard, Farm,830 South Rd.,East Greenwich, 03000517

A request for REMOVAL has been made for the following resources:

MISSOURI

Lafayette County

Eneberg, John F., House(Lexington MRA)157 N. 10th St.Lexington, 93000551

[FR Doc. 03-12342 Filed 5-15-03; 8:45 am]

BILLING CODE 4312-51-P